DEPARTMENT OF DEFENSE

Department of the Army, Corps of Engineers

Notice of Availability, Draft Environmental Impact Statement (DEIS)

AGENCY: U.S. Army Corps of Engineers, DOD.

ACTION: Announcement of DEIS Availability, King Cove Access Project, and Notice of Public Hearings.

SUMMARY: The King Cove Health and Safety Act (Section 353) of the Omnibus Consolidated and Emergency Supplemental Appropriations Act of 1999 (Public Law 105-277) provided the Aleutians East Borough (AEB) with $20 million to construct a year-round marine-road transportation system between the Cities of King Cove and Cold Bay, Alaska, on the Alaska Peninsula. AEB proposes a 152-acre project consisting of a 17.2-mile access road, two hovercraft ramps, and terminals located on the Northeast Corner of Cold Bay and Cross Wind Cove, on the west side of Cold Bay, and a hovercraft. The Corps of Engineers, Alaska District, has evaluated the AEB's permit application under the authority of Section 10 of the Rivers and Harbors Act and Section 404 of the Clean Air Act. The EIS describes five alternatives that satisfy the purpose and needs for the proposed project. The alternatives are: (1) Northeast Corner Cold Bay—Hovercraft; (3) Lenard Harbor—Hovercraft; (4) Lenard Harbor—Ferry; (5) Lenard Harbor—Helicopter; and (6) the Isthmus Road alternative. Alternative 2 is the No-Action Alternative. Alternative 6 is included for comparison purposes only and cannot be selected for authorization by the decision-maker. Alternatives 1, 3, 4, and 5 would be constructed primarily on King Cove Corporation surface lands. Alternative 1 requires a USFWS compatibility determination on Native corporation owned lands within the Izembek National Wildlife Refuge, and no construction or operations would occur within the Congressionally designated Wilderness Area. Currently, Alternatives 3 and 4 are designated as the Environmentally Preferable Alternatives. The Corps of Engineers will use the EIS, public review process and consideration of comments received as a basis for the permit decision.

SUPPLEMENTARY INFORMATION: The U.S. Army Corps of Engineers, Alaska District, is the lead Federal agency with the U.S. Fish and Wildlife Service (USFWS) as a cooperating agency for this DEIS. During the Scoping process (February 16 to June 22, 2001) over 12,331 comments were received, with over 12,000 comments and opinions provided by e-mail. Many of these scoping comments expressed an objection to a road through the Izembek National Wildlife Refuge Wilderness Area. Twenty-eight alternatives were preliminarily considered during the scoping and the alternative development phase of the EIS process. Six alternatives were selected for further evaluation. The proposed action (Alternative 1, Northeast Corner Cold Bay / Hovercraft) and two alternatives (Alternative 3, Lenard Harbor / Hovercraft; and Alternative 4, Lenard Harbor / Ferry) were selected for detailed evaluation that incorporates a marine-road link design in compliance with Section 353 cited above. The required “no action” alternative is presented as Alternative 2. The two remaining alternatives are not in compliance with section 353; hence, the $20 million Federal appropriations would not be available for project construction. These are an air-road link alternative (Alternative 5, Lenard Harbor / Helicopter) and an all-road alternative (Alternative 6, Isthmus Road). The all-road alternative (Alternative 6) is not a practicable alternative for evaluation under the Section 404(b)(1) Guidelines (40 CFR 230) for the Clean Water Act and cannot be authorized by the District Engineer. If an application is received by the USFWS under Title XI of ANCSA, a separate EIS would be required, with approval required by the Secretary of Interior, The President, and Congress. No significant adverse impacts were identified for Alternatives 1, 3, 4, and 5. Significant beneficial impacts were noted for each action alternative centering on human and social resources with the ability to enhance safe, reliable, and efficient emergency medical transport for King Cove residents and seasonal workers. For Alternatives 1, 3, 4, and 5 with the incorporation and implementation of mitigation measure, impacts to threatened and endangered or listed species (Steller's eider, Steller sea lion, and Northern sea otter) were preliminarily determined not likely to adversely affect these species. For the same alternatives and incorporation of mitigation measures, determinations of “would not likely impact Essential Fish Habitat”, and Habitats of Particular Concern were concluded.

Public Workshops and Public Hearings: August 25, 2003, Cold Bay, Alaska, Community Building. Public Workshop: 7 p.m. to 8 p.m. Public Hearing: 8 p.m. to 9 p.m

August 26, 2003; King Cove, Alaska, Community Center. Public Workshop: 4 p.m. to 5 p.m. Public Hearing: 7 p.m. to 9 p.m.

September 9, 2003; Anchorage, Alaska University of Alaska, Commons Room 107, 3700 Sharon Gagnon Lane. Public Workshop: 4 p.m. to 5 p.m. Public Hearing: 7 p.m. to 9 p.m

Comment Period: Comments should be received by the Corps of Engineers, Alaska District (address above) by September 23, 2003, or 45 days from the publication date within the Federal Register, whichever is later.

David S. Hobbie,
Assistant Branch Chief, Regulatory Branch, Alaska District.

[FR Doc. 03-20226 Filed 8-7-03; 8:45 am]

BILLING CODE 3710-NL-P